GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PPFM-6

SYSTEM NAME:

Employee Credit Reports.

SYSTEM LOCATION:

The system is located in the General Services Administration, Heartland Finance Center, Financial Information Control Division, 1500 East Bannister Road, Kansas City, MO 64131.

CATEGORIES OF INDIVIDUALS COVERED BY THE SYSTEM:

Present and former employees and/or contractors who have refused to abide by the terms of their training agreement or other employment-related contracts, and thereby have incurred a liability to the Government. When appropriate, similar information is gathered on their spouses.

CATEGORIES OF RECORDS IN THE SYSTEM:

Information that may be stored includes but is not limited to, name and address, age, number of dependents, name of employer, nature of business, position held/time held, full or part-time employment, net worth and what it consists of, annual earned income, other income, reputation, credit record, financial records, and personal history. The records are used in GSA to investigate employees who default on employment-related contracts.

AUTHORITY FOR MAINTENANCE OF THE SYSTEM:

31 U.S.C. 3711(e).

PURPOSE:

To assemble and maintain information on individuals who are indebted to GSA and other Federal entities for the purpose of effecting enforced collections from the debtors. The information contained in the records is maintained for the purpose of taking action to facilitate collection and resolution of debts using various methods, including, but not limited to, requesting repayment of debt by telephone or in writing, pursuing offset, administrative wage garnishment, centralized salary offset, referral to collection agencies or litigation, and using other collection or resolution methods authorized or required by law. The information is also maintained for the purpose of providing collection information about the debt to other Federal entities collecting the debt, and providing statistical information on debt collection operations.

ROUTINE USES OF THE SYSTEM RECORDS, INCLUDING CATEGORIES OF USERS AND THEIR PURPOSE FOR USING THE SYSTEM:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To appropriate agencies, entities, and persons with (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

The paper records are maintained in file folders and/or boxes and stored in filing cabinets or file room until archived at NARA, or in electronic form in computers or other electronic media.

RETRIEVABILITY:

Records are retrieved by name or by identifying number.

SAFEGUARDS:

Records are stored in guarded buildings and/or in areas controlled by authorized personnel. Computer files are protected by the use of passwords and other appropriate security measures. Only persons given authority to do so handle this information.

RETENTION AND DISPOSAL:

The records are disposed of as scheduled in the handbook GSA Records Maintenance and Disposition System (CIO P 1820.1).

SYSTEM MANAGER AND ADDRESS:

Director, Financial Information Control Division (6BCD), Heartland Finance Center, 1500 East Bannister Road, Kansas City, MO 64131.

NOTIFICATION PROCEDURE:

Obtain this information from the office named above.

RECORD ACCESS PROCEDURES:

See 41 CFR, part 105-64 for the procedures.

RECORD SOURCE CATEGORIES:

Credit companies, individuals, employers/supervisors, former employers, banks, and GSA credit investigators.

[FR Doc. E8-8928 Filed 4-24-08; 8:45 am]

BILLING CODE 6820-34-P